ENVIRONMENTAL PROTECTION AGENCY

[FRL:9930-02-OA]

Children's Health Protection Advisory Committee Notice of Charter Renewal

AGENCY: Environmental Protection Agency (EPA).

ACTION: Notice of Charter Renewal.

SUMMARY: The U.S. Environmental Protection Agency (EPA) has determined that, in accordance with the provisions of the Federal Advisory Committee Act (FACA), 5 U.S.C. App 2. The Children's Health Protection Advisory Committee (CHPAC) is a necessary committee which is in the public interest. Accordingly, CHPAC will be renewed for an additional two-year period. The purpose of CHPAC is to provide advice and recommendations to the Administrator of EPA on issues associated with the development of regulations, guidance and policies to address children's health risks. Inquiries may be directed to Martha Berger, Designated Federal Officer, CHPAC, U.S. EPA,MC 1107T, 1200 Pennsylvania Avenue NW., Washington, DC 20460 or 202-564-2191 or berger.martha@epa.gov.

Dated: August 20, 2015.
Ruth Etzel,
Office of Children's Health Protection.

[FR Doc. 2015-21484 Filed 8-28-15; 8:45 am]

BILLING CODE P